DEPARTMENT OF HEALTH AND HUMAN SERVICES

National Institutes of Health

Center for Scientific Review; Amended Notice of Meeting

Notice is hereby given of a change in the meeting of the Center for Scientific Review Special Emphasis Panel, Cancer Diagnosis and Treatment (CDT), July 17, 2024, 09:00 a.m. to July 18, 2024, 07:30 p.m., National Institutes of Health, Rockledge II, 6701 Rockledge Drive, Bethesda, MD 20892, which was published in the Federal Register on June 25, 2024, 89 FR 53113, FR Doc 2024-13839.

This meeting is being amended to change the meeting panel name from Cancer Diagnosis and Treatment (CDT) to Small Business: Cancer Diagnosis and Treatment (CDT). The meeting is closed to the public.

Dated: June 25, 2024.
Lauren A. Fleck,
Program Analyst, Office of Federal Advisory Committee Policy.

[FR Doc. 2024-14369 Filed 6-28-24; 8:45 am]

BILLING CODE 4140-01-P